DEPARTMENT OF TRANSPORTATION

[DOT Docket No. DOT-OST-2010-0074]

The Future of Aviation Advisory Committee (FAAC) Subcommittee on Labor and World-Class Workforce; Notice of Meeting

AGENCY: Office of the Secretary of Transportation, Department of Transportation.

ACTION: The Future of Aviation Advisory Committee (FAAC) Subcommittee on Labor and World-Class Workforce; Notice of Meeting.

SUMMARY: The Department of Transportation (DOT), Office of the Secretary of Transportation, announces a meeting of the FAAC Subcommittee on Labor and World-class Workforce, which will be held at 501 3rd Street NW., Washington, DC, 20001. This notice announces the date, time, and location of the meeting, which will be open to the public. The purpose of the FAAC is to provide advice and recommendations to the Secretary of Transportation to ensure the competitiveness of the U.S. aviation industry and its capability to effectively manage the evolving transportation needs, challenges, and opportunities of the global economy. The subcommittee is charged with ensuring the availability and quality of a workforce necessary to support a robust, expanding commercial aviation industry in light of the changing socio-economic dynamics of the world's technologically advanced economies. Among other matters, the subcommittee will examine certain issues affecting the future employment requirements of the aviation industry in order to finalize the proposals for the final meeting of the FAAC on December 15, 2010: (1) The need for science, technology, engineering, and math skills in the industry; (2) the creation of a culture of dignity and respect in the workplace by incorporating core workers' human rights conventions into international aviation agreements; (3) the creation of a biannual Aviation Industry Workforce-Management Summit endorsed and implemented by the Secretary of Transportation; and (4) the need to improve labor management relations within the aviation industry by increasing resources available to the National Mediation Board to help improve the collective bargaining process in the airline industry.

DATES: The meeting will be held on November 15, 2010, from 10 a.m. to 2:30 p.m. Eastern Standard Time.

ADDRESSES: The meeting will be held at the Communications Workers of America Building, 501 3rd Street, NW., Washington, DC 20001. Persons desiring to attend but unable to do so may listen in via teleconference. Call-in information will be provided upon registration. (See below for registration instructions.)

Public Access: The meeting is open to the public. (See below for registration instructions.)

Public Comments: Persons wishing to offer written comments and suggestions concerning the activities of the advisory committee or subcommittee should file comments in the Public Docket (Docket Number DOT-OST-2010-0074 at http://www.regulations.gov) or alternatively through the FAAC@dot.gov e-mail. If comments and suggestions are intended specifically for the Subcommittee on Labor and World-Class Workforce, the term “Labor/Workforce” should be listed in the subject line of the message. In order to ensure such comments can be considered by the subcommittee before its November 15, 2010, meeting, public comments must be filed by 5 p.m. Eastern Standard Time on Monday, November 8, 2010.

SUPPLEMENTARY INFORMATION:

Background

Under section 10(a)(2) of the Federal Advisory Committee Act (5 U.S.C. App. 2), we are giving notice of a meeting of the FAAC Subcommittee on Labor and World-class Workforce taking place on November 15, 2010, from 10 a.m. to 2:30 p.m. Eastern Standard Time, at the Communications Workers of America Building, 501 3rd Street, NW., Washington, DC, 20001 and via teleconference. A call-in number and pass code will be issued upon registration. Background information may be found at the FAAC Web site, located at http://www.dot.gov/faac/. The agenda includes—

1. Ratification of minutes from previous meeting.

2. Finalization of the subcommittee's recommendations for presentation at the final meeting of the FAAC on December 15, 2010.

Registration

The meeting room can accommodate up to 50 members of the public. Persons desiring to listen to the discussion must pre-register through e-mail to FAAC@dot.gov. The term “Registration: Labor/Workforce” must be listed in the subject line of the message, and access will be limited to the first 50 persons to pre-register and receive a confirmation of their pre-registration.

The telephone conference can accommodate up to 25 members of the public. Persons desiring to listen to the discussion must preregister through e-mail to FAAC@dot.gov. The term “Registration: Labor/Workforce” must be listed in the subject line of the message, and access will be limited to the first 25 persons to preregister and receive a confirmation of their preregistration.

No arrangements are being made for video transmission or for oral statements or questions from the public during the meeting. Minutes of the meeting will be taken and will be posted on the FAAC Web site at http://www.dot.gov/faac/.

Request for Special Accommodation

The DOT is committed to providing equal access to this meeting for all participants. If you need alternative formats or services because of a disability, please send a request to FAAC@dot.gov with the term “Special Accommodations” listed in the subject line of the message by close of business on Monday, November 8, 2010.

FOR FURTHER INFORMATION CONTACT: Terri L. Williams, Acting Executive Director for Strategic Performance and Organizational Success, Office of the Assistant Administrator for Human Resources, Federal Aviation Administration, 800 Independence Avenue, SW., Washington, DC 20591; (202) 267-3456, extension 7472; or Regis P. Milan, Office of Aviation Analysis, U.S. Department of Transportation; Room W86-309, 1200 New Jersey Avenue, SE., Washington, DC 20590; (202) 366-2349.

Issued in Washington, DC, on October 29, 2010.
Pamela Hamilton-Powell,
Designated Federal Official, Future of Aviation Advisory Committee.

[FR Doc. 2010-27726 Filed 11-2-10; 8:45 am]

BILLING CODE P